DEPARTMENT OF ENERGY

Federal Energy Regulatory Commission

Combined Notice of Filings #1

Take notice that the Commission received the following electric corporate filings:

Docket Numbers: EC25-134-000.

Applicants: Chestnut Flats Lessee, LLC.

Description: Application for Authorization Under Section 203 of the Federal Power Act of Chestnut Flats Lessee, LLC.

Filed Date: 8/21/25.

Accession Number: 20250821-5154.

Comment Date: 5 p.m. ET 9/11/25.

Docket Numbers: EC25-135-000.

Applicants: Logan Wind, LLC, Logan Wind Energy, LLC.

Description: Joint Application for Authorization Under Section 203 of the Federal Power Act of Logan Wind, LLC, et al.

Filed Date: 8/22/25.

Accession Number: 20250822-5223.

Comment Date: 5 p.m. ET 9/12/25.

Docket Numbers: EC25-136-000.

Applicants: Limon Wind III Energy, LLC, Limon Wind III, LLC.

Description: Joint Application for Authorization Under Section 203 of the Federal Power Act of Limon Wind III Energy, LLC, et al.

Filed Date: 8/22/25.

Accession Number: 20250822-5224.

Comment Date: 5 p.m. ET 9/12/25.

Docket Numbers: EC25-137-000.

Applicants: Cimarron Wind Energy, LLC, Cimarron Wind, LLC.

Description: Joint Application for Authorization Under Section 203 of the Federal Power Act of Cimarron Wind Energy, LLC, et al.

Filed Date: 8/22/25.

Accession Number: 20250822-5227.

Comment Date: 5 p.m. ET 9/12/25.

Docket Numbers: EC25-138-000.

Applicants: Garden Wind, LLC, Garden Wind Energy, LLC.

Description: Joint Application for Authorization Under Section 203 of the Federal Power Act of Garden Wind, LLC, et al.

Filed Date: 8/22/25.

Accession Number: 20250822-5228.

Comment Date: 5 p.m. ET 9/12/25.

Docket Numbers: EC25-139-000.

Applicants: Rev Renewables Fund V Holdings, LLC, Rev Renewables, LLC.

Description: Joint Application for Authorization Under Section 203 of the Federal Power Act of Rev Renewables Fund V Holdings, LLC, et al.

Filed Date: 8/22/25.

Accession Number: 20250822-5229.

Comment Date: 5 p.m. ET 9/12/25.

Docket Numbers: EC25-140-000.

Applicants: Troy ParentCo LLC, TXNM Energy Inc., Public Service Company of New Mexico, New Mexico PPA Corporation.

Description: Joint Application for Authorization Under Section 203 of the Federal Power Act of Troy ParentCo LLC, et al.

Filed Date: 8/25/25.

Accession Number: 20250825-5223.

Comment Date: 5 p.m. ET 10/24/25.

Take notice that the Commission received the following exempt wholesale generator filings:

Docket Numbers: EG25-501-000.

Applicants: Desert Sands Energy Center, LLC.

Description: Desert Sands Energy Center, LLC submits Notice of Self-Certification of Exempt Wholesale Generator Status.

Filed Date: 8/25/25.

Accession Number: 20250825-5044.

Comment Date: 5 p.m. ET 9/15/25.

Docket Numbers: EG25-502-000.

Applicants: Grace Orchard Solar II, LLC.

Description: Grace Orchard Solar II, LLC submits Notice of Self-Certification of Exempt Wholesale Generator Status.

Filed Date: 8/25/25.

Accession Number: 20250825-5046.

Comment Date: 5 p.m. ET 9/15/25.

Docket Numbers: EG25-503-000.

Applicants: Grace Orchard Energy Center, LLC.

Description: Grace Orchard Energy Center, LLC submits Notice of Self-Certification of Exempt Wholesale Generator Status.

Filed Date: 8/25/25.

Accession Number: 20250825-5048.

Comment Date: 5 p.m. ET 9/15/25.

Take notice that the Commission received the following electric rate filings:

Docket Numbers: ER11-4443-003; ER11-3670-002; ER16-1689-002.

Applicants: ArcelorMittal Cleveland LLC, ArcelorMittal USA LLC, AK Electric Supply, LLC.

Description: Supplement to 01/21/2021, Notice of Change in Status of AK Electric Supply LLC, et al.

Filed Date: 8/25/25.

Accession Number: 20250825-5225.

Comment Date: 5 p.m. ET 9/15/25.

Docket Numbers: ER17-2059-015.

Applicants: Puget Sound Energy, Inc.

Description: Notice of Non-Material Change in Status of Puget Sound Energy, Inc.

Filed Date: 8/21/25.

Accession Number: 20250821-5156.

Comment Date: 5 p.m. ET 9/11/25.

Docket Numbers: ER24-2046-002.

Applicants: Midcontinent Independent System Operator, Inc.

Description: Compliance filing: 2025-08-25_Compliance Filing for Order Nos. 2023 and 2023-A to be effective 7/28/2025.

Filed Date: 8/25/25.

Accession Number: 20250825-5178.

Comment Date: 5 p.m. ET 9/15/25.

Docket Numbers: ER25-2682-000; ER25-3039-000.

Applicants: AL Solar G, LLC, FL Solar 8, LLC.

Description: Supplement to 06/27/2025 and 07/31/2025, tariff filings of FL Solar 8, LLC, et al.

Filed Date: 8/25/25.

Accession Number: 20250825-5226.

Comment Date: 5 p.m. ET 9/4/25.

Docket Numbers: ER25-3287-000.

Applicants: Calpine Mid-Atlantic Generation, LLC.

Description: Tariff Amendment: Calpine Mid-Atlantic Generation, LLC submits tariff filing per 35.15: Reactive Service Rate Schedules, Cancellation, Info. Filing, Req. for Waivers to be effective 12/31/9998.

Filed Date: 8/25/25.

Accession Number: 20250825-5187.

Comment Date: 5 p.m. ET 9/15/25.

Docket Numbers: ER25-3288-000.

Applicants: First State Generation, LLC.

Description: Initial rate filing: Reactive Service Rate Schedules, Cancellation, Info. Filing, Req. for Waivers to be effective 12/31/9998.

Filed Date: 8/25/25.

Accession Number: 20250825-5189.

Comment Date: 5 p.m. ET 9/15/25.

Docket Numbers: ER25-3289-000.

Applicants: Calpine Mid-Atlantic Generation, LLC.

Description: Tariff Amendment: Reactive Service Rate Schedules, Cancellation, Info. Filing, Req. for Waivers to be effective 12/31/9998.

Filed Date: 8/26/25.

Accession Number: 20250826-5000.

Comment Date: 5 p.m. ET 9/16/25.

Docket Numbers: ER25-3290-000.

Applicants: Calpine Mid-Atlantic Generation, LLC.

Description: § 205(d) Rate Filing: Reactive Service Rate Schedules, Cancellation, Info. Filing, Req. for Waivers to be effective 12/31/9998.

Filed Date: 8/26/25.

Accession Number: 20250826-5001.

Comment Date: 5 p.m. ET 9/16/25.

Docket Numbers: ER25-3291-000.

Applicants: New York Independent System Operator, Inc., Rochester Gas and Electric Corporation.

Description: § 205(d) Rate Filing: New York Independent System Operator, Inc. submits tariff filing per 35.13(a)(2)(iii: NYISO-RG&E Joint 205: Amended EPCA Cider Solar Project SA2856 to be effective 8/12/2025.

Filed Date: 8/26/25.

Accession Number: 20250826-5039.

Comment Date: 5 p.m. ET 9/16/25.

Docket Numbers: ER25-3292-000.

Applicants: Midcontinent Independent System Operator, Inc.

Description: § 205(d) Rate Filing: 2025-08-26_MISO Tariff Revisions Related to 1803 Cooperative Integration to be effective 10/26/2025.

Filed Date: 8/26/25.

Accession Number: 20250826-5072.

Comment Date: 5 p.m. ET 9/16/25.

Docket Numbers: ER25-3293-000.

Applicants: San Diego Gas & Electric.

Description: § 205(d) Rate Filing: Service Agreement No. 71 to be effective 8/27/2025.

Filed Date: 8/26/25.

Accession Number: 20250826-5087.

Comment Date: 5 p.m. ET 9/16/25.

Docket Numbers: ER25-3294-000.

Applicants: Black Hills Power, Inc.

Description: § 205(d) Rate Filing: Revisions to Attachment N to be effective 10/26/2025.

Filed Date: 8/26/25.

Accession Number: 20250826-5106.

Comment Date: 5 p.m. ET 9/16/25.

Docket Numbers: ER25-3295-000.

Applicants: California North Floating LLC.

Description: Petition for Limited Waiver of California North Floating LLC.

Filed Date: 8/25/25.

Accession Number: 20250825-5229.

Comment Date: 5 p.m. ET 9/15/25.

Docket Numbers: ER25-3296-000.

Applicants: AEP Oklahoma Transmission Company, Inc.

Description: § 205(d) Rate Filing: AEPOTC-Crooked Creek Solar Preliminary Development Agreement to be effective 8/6/2025.

Filed Date: 8/26/25.

Accession Number: 20250826-5118.

Comment Date: 5 p.m. ET 9/16/25.

Take notice that the Commission received the following qualifying facility filings:

Docket Numbers: QF25-1239-000.

Applicants: ABB000.0 PROJECTCO, LLC.

Description: Form 556 of ABB000.0 PROJECTCO, LLC.

Filed Date: 8/25/25.

Accession Number: 20250825-5205.

Comment Date: 5 p.m. ET 9/15/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: August 26, 2025.
Debbie-Anne A. Reese,
Secretary.

[FR Doc. 2025-16634 Filed 8-28-25; 8:45 am]

BILLING CODE 6717-01-P